FEDERAL COMMUNICATIONS COMMISSION

Notice of Public Information Collection(s) Being Submitted for Review to the Office of Management and Budget

October 18, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 25, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-1030.

Title: Service Rules for Advanced Wireless Services in the 1.7 GHz and 2.1 GHz Bands.

Form No.: N/A.

Type of Review: Revision of a currently approved collection.

Respondents: Business or other for-profit, Federal Government, and state, local and tribal government.

Number of Respondents: 500.

Estimated Time Per Response: .50 hours-10 hours.

Frequency of Response: On occasion reporting requirement, recordkeeping requirement and third party disclosure requirement.

Total Annual Burden: 6,505 hours.

Total Annual Cost: N/A.

Privacy Act Impact Assessment: N/A.

Needs and Uses: The Commission adopted and released a Report and Order in WT Docket No. 02-353, FCC 03-251, which adopts service, licensing, and competitive bidding rules for advanced wireless services in the 1710-1755 MHz and 2110-2155 MHz bands. These bands have previously been used for a variety of government and non-government services. The R&O allocates these frequency bands for fixed and mobile services to as to provide for the introduction of new advanced wireless services to the public. In the R&O, the Commission is enabling service providers to put this spectrum to its highest value use with minimal transaction costs. By the end of its license term a licensee must provide “substantial service” that is, service that is sound, favorable and substantially above the level of mediocre service that just might minimally warrant renewal. Compared to a construction standard, section 27.14(a)'s substantial service requirement will provide licensees greater flexibility to determine how best to implement their business plans based on criteria demonstrating actual service to end users. This requirement provides the flexibility required to accommodate the new and innovative services that we believe will be forthcoming in these bands.

The Commission is imposing three information collection burdens on the public. They are: (1) Foreign ownership change submission; (b) showing of compliance with substantial service requirement; and (3) interference coordination. Such information has been used in the past and will continue to be used to minimize interference, verify that the applicants are legally and technically qualified to hold licenses, and to determine compliance with Commission rules.

Federal Communications Commission.
Marlene H. Dortch,
Secretary.

[FR Doc. 05-21294 Filed 10-25-05; 8:45 am]

BILLING CODE 6712-01-P